SURFACE TRANSPORTATION BOARD

[Docket No. FD 36821]

Dover and Delaware River Railroad, LLC—Lease and Operation Exemption Including Interchange Commitment—Norfolk Southern Railway Company

Dover and Delaware River Railroad, LLC (DDRR), a Class III rail carrier, has filed a verified notice of exemption under 49 CFR 1150.41 to exempt from regulation DDRR's amendment (the Amendment) modifying the existing lease (the Current Lease) that DDRR and Norfolk Southern Railway Company entered into in 2018 and amended in 2023.¹ The lines subject to the Current Lease and Amendment (Leased Lines), which DDRR will continue to operate after the transaction, include: (1) the Washington Secondary, between milepost WD 57.25 (previously WD 58.0) at Hackettstown, N.J., and milepost WD 80.3 at Phillipsburg, N.J.; (2) the Old Road Industrial Track, between milepost 66.5 TG at Washington, N.J., and milepost 67.6 TG at Washington; (3) the Pompton Industrial Track, between milepost PQ 21.4 at Mountain View, N.J., and milepost PQ 22.2 at Wayne, N.J.; and (4) the Totowa Spur, between milepost TO 18.0 at Totowa, N.J., and milepost 21.0 at Wayne, a total of 27.95 miles of rail line. The Amendment will extend the term and will also revise other commercial terms of the Current Lease.²

¹ See Dover & Del. River R.R.—Lease with Interchange Commitment & Trackage Rts. Exemption—Norfolk S. Ry., FD 36258 et al. (STB served Feb. 15, 2019); Dover & Del. River R.R.—Lease Containing Interchange Commitment & Trackage Rts. Exemption—Norfolk S. Ry., FD 36703 (STB served June 16, 2023).

² According to the verified notice, the trackage rights that were originally authorized together with the Current Lease will continue unchanged.

DDRR certifies that its projected annual revenues from this transaction will not result in the creation of a Class I or Class II rail carrier and will not exceed $5 million. DDRR also certifies that an interchange commitment will continue to apply during the term of the Amendment. DDRR has provided additional information regarding the interchange commitment as required under 49 CFR 1150.43(h).

According to the verified notice, the Amendment will become effective once the notice of exemption becomes effective, and DDRR will continue to operate the Leased Lines under the Current Lease until that point. The earliest this transaction may be consummated is January 16, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 9, 2025.

All pleadings, referring to Docket No. FD 36821, must be filed with the Surface Transportation Board either via e-filing on the Board's website or in writing addressed to 395 E Street SW, Washington, DC 20423-0001. In addition, one copy of each pleading must be served on DDRR's representative, Justin J. Marks, Clark Hill PLC, 1001 Pennsylvania Ave. NW, Suite 1300 South, Washington, DC 20004.

According to DDRR, this action is categorically excluded from environmental review under 49 CFR 1105.6(c) and from historic reporting requirements under 49 CFR 1105.8(b).

Board decisions and notices are available at www.stb.gov.y,

Decided: December 26, 2024.
By the Board, Scott M. Zimmerman, Acting Director, Office of Proceedings.
Tammy Lowery,
Clearance Clerk.

[FR Doc. 2024-31460 Filed 12-31-24; 8:45 am]

BILLING CODE 4915-01-P